DEPARTMENT OF EDUCATION

[Docket ID ED-2023-FSA-0180]

Privacy Act of 1974; Matching Program

AGENCY: Federal Student Aid, Department of Education.

ACTION: Notice of a new matching program.

SUMMARY: Pursuant to the Privacy Act of 1974, as amended by the Computer Matching and Privacy Protection Act of 1988 and the Computer Matching and Privacy Protection Amendments of 1990 (Privacy Act), and Office of Management and Budget (OMB) guidance on the conduct of matching programs, notice is hereby given of the re-establishment of a matching program between the U.S. Department of Education (Department), as the recipient agency, and the Social Security Administration (SSA), as the source agency, to enable the Department to contact individuals whom SSA identifies as disabled using Medical Improvement Not Expected (MINE) data, to inform them that the Department will issue Total and Permanent Disability (TPD) discharges of their balances of loans under title IV of the Higher Education Act of 1965, as amended (HEA), their title IV HEA loans that have been written off due to default, or, their outstanding service or repayment obligations under the Teacher Education Assistance for College and Higher Education (TEACH) Grant Program unless they opt out of the TPD discharge. Such TPD discharges will occur no earlier than 61 days from the date that the Department sends the notification to those individuals, unless those individuals choose to have their loans or outstanding service or repayment obligations discharged earlier, or choose to opt out of the TPD discharge within 60 days from the date that the Department sends the notification to them.

DATES: Submit your comments on the proposed re-establishment of the matching program on or before February 12, 2024.

The matching program will go into effect on the later of the following three dates: (1) March 30, 2024; (2) at the expiration of the 60-day period following the Department's transmittal of a report concerning the matching program to OMB and to the appropriate Congressional Committees, along with a copy of the Computer Matching Agreement, unless OMB waives any of this 60-day review period for compelling reasons, in which case, 60 days minus the number of days waived by OMB from the date of the Department's transmittal of the report of the matching program; or (3) at the expiration of the 30-day public comment period following the Department's publication of notice of this matching program in the Federal Register, assuming that the Department receives no public comments or receives public comments but makes no changes to the Matching Notice as a result of the public comments, or 30 days from the date on which the Department publishes a Revised Matching Notice in the Federal Register, assuming that the Department receives public comments and revises the Matching Notice as a result of public comments. If the latest date occurs on a non-business day, then that date will be counted for purposes of this paragraph as occurring on the next business day.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ”.

Privacy Note: The Department's policy is to make all comments received from members of the public available for public viewing in their entirety on the Federal eRulemaking Portal at www.regulations.gov. Therefore, commenters should be careful to include in their comments only information that they wish to make publicly available.

FOR FURTHER INFORMATION CONTACT: Ron Bennett, Group Director Program Technical & Business Support Group, Federal Student Aid, U.S. Department of Education, 830 First Street NE, Washington, DC 20202-5320. Telephone: (202) 377-3181. Email: Ron.Bennett@ed.gov.

If you are deaf, hard of hearing, or have a speech disability and wish to access telecommunications relay services, please dial 7-1-1.

SUPPLEMENTARY INFORMATION: In accordance with the Privacy Act; OMB “Final Guidance Interpreting the Provisions of Public Law 100-503, the Computer Matching and Privacy Protection Act of 1988,” published in the Federal Register on June 19, 1989 (54 FR 25818); and OMB Circular No. A-108, notice is hereby given of the re-establishment of a matching program between the Department and SSA to enable the Department to contact certain individuals with loans under title IV of the HEA or outstanding service or repayment obligations under the TEACH Grant Program whom SSA identifies as disabled using MINE disability data to inform them that, should they wish, the Department will facilitate a TPD discharge of their loans under title IV of the HEA or TEACH Grant service or repayment obligations.

Participating Agencies

The Department and SSA.

Authority for Conducting the Matching Program

The Department's legal authority to enter into the matching program and to disclose information thereunder includes sections 420N(c), 437(a)(1), 455(a)(1), and 464(c)(1)(F)(ii & iii) of the HEA (20 U.S.C. 1070g-2(c), 1087(a)(1), 1087e(a)(1)), and 1087dd((c)(1)(F)(ii & iii)).

SSA's legal authority to disclose information under this Agreement is section 1106 of the Act (42 U.S.C. 1306) and the regulations promulgated pursuant to that section (20 CFR part 401). Subsection (b)(3) of the Privacy Act (5 U.S.C. 552a(b)(3) allows SSA to make the disclosure without the prior written consent of the individuals to whom the records pertain.

Purpose(s)

This matching program will enable the Department to send notices to certain borrowers with loans under title IV of the HEA and TEACH Grant recipients whom SSA identifies as disabled based on MINE disability data to inform them that the Department will discharge the individuals' title IV loans or TEACH Grant service or repayment obligations no earlier than 61 days from the date that the Department sends the notification to the individual, unless the individual chooses to have their loans or service or repayment obligations discharged earlier or chooses to opt out of the TPD discharge within 60 days from the date that the Department sends the notification to the individual.

Categories of Individuals

Under the Computer Matching Agreement (CMA) for this matching program, the Department will disclose information to SSA from the system of records entitled “National Student Loan Data System (NSLDS)” (18-11-06) on individuals who owe a balance on one or more title IV, HEA loans, who have had a title IV, HEA loan written off due to default, or who have an outstanding service or repayment obligation under the TEACH Grant Program.

Under the CMA for this matching program, SSA will disclose information to the Department from the Disability Control File (DCF), which originates from the “Completed Determination Record—Continuing Disability Determinations” (60-0050) system of records, on individuals whom SSA identifies as disabled using MINE disability data.

Categories of Records

The Department will disclose to SSA from the system of records entitled “National Student Loan Data System (NSLDS)” (18-11-06) the name, date of birth (DOB), and Social Security number (SSN) of the individuals identified in the preceding section. These individuals will be matched with SSA data recorded in the DCF, which originates from the “Completed Determination Record—Continuing Disability Determinations” (60-0050) system of records, in order to provide the Department with MINE disability data.

System(s) of Records

The Department will disclose records to SSA from its system of records identified as “National Student Loan Data System (NSLDS)” (18-11-06), as last published in the Federal Register in full on June 28, 2023 (88 FR 41934).

SSA will disclose records back to the Department from its systems of records identified as the “Completed Determination Record—Continuing Disability Determinations” (60-0050), which was last fully published in the Federal Register at 71 FR 1813 on January 11, 2006, and updated on December 10, 2007 (72 FR 69723), November 1, 2018 (83 FR 54969), and April 26, 2019 (84 FR 17907).

The Department will maintain matched records that it receives from SSA in the aforementioned system of records identified as “National Student Loan Data System (NSLDS)” (18-11-06), along with the Department's system of records identified as “Common Services for Borrowers (CSB)” (18-11-16), last published in the Federal Register in full on July 27, 2023 (88 FR 48449).

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2024-00584 Filed 1-11-24; 8:45 am]

BILLING CODE 4000-01-P